DEPARTMENT OF ENERGY

Federal Energy Regulatory Commission

[Docket No. PL98-1-001]

Public Access to Information and Electronic Filing; Notice of Electronic Filing Demonstrations

October 19, 2000.

Take notice that the Commission Staff (Staff) will conduct demonstrations for filing comments electronically (excluding comments on rulemakings).

The electronic filing demonstrations will be held following the Commission meetings on October 25, 2000 and November 8, 2000.

The demonstration on October 25, 2000 will be held in Hearing Room 1 and the demonstration on November 8 will be held in the Commission Meeting Room at the Federal Energy Regulatory Commission, 888 First Street, NE., Washington, DC 20426.

The electronic filing demonstrations are open to all interested persons.

The Capitol Connection will offer the electronic filing demonstration on November 8, 2000, as a special FERC meeting, live over the Internet as well as via telephone and satellite. For a reasonable fee, you can receive the demonstration in your office, at home or anywhere in the world. To find out more about The Capitol Connection's live Internet, phone bridge or satellite coverage, contact David Reininger or Julia Morelli at (703) 993-3100 or visit Capital Connection's website at www.capitolconnection.gmu.edu). The Capitol Connection also offers FERC Open Meetings through its Washington, DC area television service.

David Boergers,
Secretary.

[FR Doc. 00-27620 Filed 10-26-00; 8:45 am]

BILLING CODE 6717-01-M